DEPARTMENT OF HEALTH AND HUMAN SERVICES

Administration for Children and Families

Proposed Information Collection Activity; Comment Request

Proposed Projects

Title: Voluntary Establishment of Paternity.

OMB No. 0970-0175.

Description: The Personal Responsibility and Work Opportunity Reconciliation Act of 1996 requires States to develop procedures for a simple civil process for voluntarily acknowledging paternity under which the State must provide that, before a mother and putative father can sign a voluntary acknowledgement of paternity, the mother and putative father must be given notice, orally and in writing, of the alternatives to, the legal consequences of, and the rights and responsibilities of acknowledging paternity, and ensure that due process safeguards are afforded.

Respondents: Hospitals, birth record agencies, and other entities participating in a State's voluntary paternity establishment program.

Table of Burden Estimates for Informing Parents of Their Rights and Responsibilities and for Providing Training
Notifying entity | Number of disclosures | Number of disclosures per disclosure | Average burden hours per disclosure | Average burden hours for training | Total burden hours
Hospital | 6,291 | 35.654 | .166 | 800 | 38,034
Birth Record Agencies | 3,072 | 3.319 | .166 | 36 | 1,728
Child Support Agencies | 3,072 | 3.319 | .166 | 36 | 1,728
Private Health Care Providers | 650,000 | 3.319 | .166 | 36 | 1,728
Child Care Resource and Referral Centers | 500 | 3.319 | .166 | 36 | 1,728
Child Care Providers | 310,000 | 3.319 | .166 | 36 | 1,728
TANF Agencies | 3,072 | 36.507 | .166 | 400 | 19,017
Legal Aid Agencies and Private Attorneys | 946,500 | 3.319 | .166 | 36 | 1,728
Food Stamp Agencies | 3,072 | 3.319 | .166 | 36 | 1,728
Community Action Agencies | 1,158 | 3.319 | .166 | 36 | 1,728
Head Start Schools | 37,000 | 3.319 | .166 | 36 | 1,728
Secondary Schools | 23,046 | 3.319 | .166 | 36 | 1,728
WIC Centers | 1,800 | 3.319 | .166 | 36 | 1,728

Estimated Total Annual Burden Hours: 76,059.

In compliance with the requirements of section 3506(c)(2)A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, D.C. 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 12, 2001.
Bob Sargis,
Reports Clearance Officer.

[FR Doc. 01-3889 Filed 2-15-01; 8:45 am]

BILLING CODE 4184-01-M